DEPARTMENT OF HOMELAND SECURITY

U.S. Customs and Border Protection

Accreditation and Approval of NMK Resources, Inc. (Pasadena, TX) as a Commercial Gauger and Laboratory

AGENCY: U.S. Customs and Border Protection, Department of Homeland Security.

ACTION: Notice of accreditation and approval of NMK Resources, Inc. (Pasadena, TX) as a commercial gauger and laboratory.

SUMMARY: Notice is hereby given, pursuant to CBP regulations, that NMK Resources, Inc. (Pasadena, TX) has been approved to gauge petroleum and certain petroleum products and accredited to test petroleum and certain petroleum products for customs purposes for the next four years as of September 14, 2021.

DATES: NMK Resources, Inc. (Pasadena, TX) was approved and accredited as a commercial gauger and laboratory as of September 14, 2021. The next inspection date will be scheduled for September 2025.

FOR FURTHER INFORMATION CONTACT: Dr. Eugene Bondoc, Laboratories and Scientific Services Directorate, U.S. Customs and Border Protection, 1300 Pennsylvania Avenue NW, Suite 1501N, Washington, DC 20229, tel. 202-344-1060.

SUPPLEMENTARY INFORMATION: Notice is hereby given pursuant to 19 CFR 151.12 and 19 CFR 151.13, that NMK Resources, Inc., 1107 Center St., Pasadena, TX 77506, has been approved to gauge petroleum and certain petroleum products and accredited to test petroleum and certain petroleum products for customs purposes, in accordance with the provisions of 19 CFR 151.12 and 19 CFR 151.13 as of September 14, 2021.¹

¹ As a result of the SARS-CoV-2 (COVID-19) pandemic, Laboratories and Scientific Services implemented a one-time quadrennial timeframe for reoccurring audits originally scheduled to take place in 2020, 2021, and 2022. This postponed the scheduled deadline for audits and the payment of reaccreditation or reapproval fees by one year, after which audits will return to a triennial schedule. See 19 U.S.C. 1499; Presidential Proclamation 9994, 85 FR 15337 (March 13, 2020); Executive Order 13924, 85 FR 31353 (May 19, 2020); and U.S. Customs & Border Protection, COVID-19 Laboratory and Gauger Postponement Letter (May 26, 2021), https://www.cbp.gov/document/guidance/covid-19-gauger-postponement-letter.

NMK Resources, Inc. (Pasadena, TX) is approved for the following gauging procedures for petroleum and certain petroleum products from the American Petroleum Institute (API):

API chapters | Title
3 | Tank Gauging.
7 | Temperature Determination.
8 | Sampling.
11 | Physical Properties Data.
12 | Calculations.
17 | Maritime Measurement.

NMK Resources, Inc. (Pasadena, TX) is accredited for the following laboratory analysis procedures and methods for petroleum and certain petroleum products set forth by the U.S. Customs and Border Protection Laboratory Methods (CBPL) and American Society for Testing and Materials (ASTM):

CBPL No. | ASTM | Title
27-04 | D95 | Standard Test Method for Water in Petroleum Products and Bituminous Materials by Distillation.
27-06 | D473 | Standard Test Method for Sediment in Crude Oils and Fuel Oils by the Extraction Method.
27-48 | D4052 | Standard Test Method for Density and Relative Density of Liquids by Digital Density Meter.

Anyone wishing to employ this entity to conduct laboratory analyses and gauger services should request and receive written assurances from the entity that it is accredited or approved by the U.S. Customs and Border Protection to conduct the specific test or gauger service requested. Alternatively, inquiries regarding the specific test or gauger service this entity is accredited or approved to perform may be directed to the U.S. Customs and Border Protection by calling (202) 344-1060. The inquiry may also be sent to CBPGaugersLabs@cbp.dhs.gov. Please reference the website listed below for a complete listing of CBP approved gaugers and accredited laboratories. http://www.cbp.gov/about/labs-scientific/commercial-gaugers-and-laboratories.

James D. Sweet,
Laboratory Director, Houston, Laboratories and Scientific Services Directorate.

[FR Doc. 2023-20869 Filed 9-25-23; 8:45 am]

BILLING CODE 9111-14-P